NATIONAL ARCHIVES AND RECORDS ADMINISTRATION

[NARA-2022-011]

Agency Information Collection Activities: Proposed Collection; Comment Request

AGENCY: National Archives and Records Administration (NARA).

ACTION: Notice.

SUMMARY: We are proposing to request an extension from the Office of Management and Budget (OMB) of a currently approved information collection, 3095-0054, Independent Researchers Listing Application (NA Form 14115), used by independent researchers to provide their contact information to people looking for a researcher. We invite you to comment on this proposed information collection pursuant to the Paperwork Reduction Act of 1995.

DATES: We must receive written comments on or before January 24, 2022.

ADDRESSES: Send comments to Paperwork Reduction Act Comments (MP), Room 4100; National Archives and Records Administration; 8601 Adelphi Road; College Park, MD 20740-6001, or email them to tamee.fechhelm@nara.gov.

FOR FURTHER INFORMATION CONTACT: Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), we invite the public and other Federal agencies to comment on proposed information collections. If you have comments or suggestions, they should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether the collection affects small businesses.

We will summarize any comments you submit and include the summary in our request for OMB approval. All comments will become a matter of public record.

In this notice, we solicit comments concerning the following information collection:

Title: Independent researcher listing application.

OMB number: 3095-0054.

Agency form numbers: NA Form 14115 (Independent Researcher Listing Application).

Type of review: Regular.

Affected public: Individuals or households.

Estimated number of respondents: 300.

Estimated time per response: 10 minutes.

Frequency of response: On occasion.

Estimated total annual burden hours: 50 hours.

Abstract: Collecting information to populate the independent researcher application listing is a service we provide to researchers and those who wish to hire them. In the past, at the request of customers, the National Archives made use of various lists of independent researchers who perform freelance research for hire in the Washington, DC, area. We sent these lists upon request to researchers who could not travel to the metropolitan area to conduct their own research. To better accommodate both the public and NARA staff in this process, the Archival Operations division of the National Archives began to maintain a listing of independent researchers who wished to participate. To populate that list, we allow interested independent researchers to provide their contact information for this purpose on NA Form 14115. Collecting contact and other key information from each independent researcher and providing such information to the public when appropriate increases researcher business. This form is voluntary and is not a burden to an independent researcher who chooses to submit one. Inclusion on the list is not an endorsement by NARA. The listing is compiled and disseminated as a service to the public.

Swarnali Haldar,
Executive for Information Services/CIO.

[FR Doc. 2021-25480 Filed 11-22-21; 8:45 am]

BILLING CODE 7515-01-P